DEPARTMENT OF COMMERCE

National Oceanic and Atmospheric Administration

50 CFR Parts 300 and 600

[Docket No. 110810490-1504-01]

RIN 0648-BB25

Technical Amendment; Updates to Titles of Officials, Office Names, and References

AGENCY: National Marine Fisheries Service (NMFS), National Oceanic and Atmospheric Administration (NOAA), Commerce.

ACTION: Final rule; technical amendment.

SUMMARY: This rule provides multiple administrative updates, which pertain to international fisheries and domestic fisheries. Other updates in office names and a fax number are also included.

DATES: Effective September 26, 2011.

FOR FURTHER INFORMATION CONTACT: MiAe Kim, Trade and Marine Stewardship Division, Office of International Affairs, NMFS (ph. 301-427-8365, fax 301-713-2313, or e-mail mi.ae.kim@noaa.gov).

SUPPLEMENTARY INFORMATION: NMFS is amending its definitions in 50 CFR part 300 to update titles of officials, office names, and addresses to be consistent with the same in part 600. The definition of “Regional Administrator” is removed from § 300.11 because of the revision to the definitions in § 300.2. The definition of “lobster” is also revised in § 300.121 to clarify that Panulirus argus can be referred to as “Caribbean spiny lobster” as well as “spiny lobster.” This rule updates reference to the Magnuson-Stevens Fishery Conservation and Management Act from “Magnuson Act” to “Magnuson-Stevens Act.”

Furthermore, the responsibilities for processing and tracking of Russian fishing permits for U.S. nationals shifted from the Office of Sustainable Fisheries to the Office of International Affairs. This rule updates the fax number in 50 CFR 300.154(b)(2) resulting from this shift.

In 50 CFR part 600, references to “International Fisheries Division” are changed to “Office of International Affairs” to reflect this reorganization.

Classification

The Assistant Administrator for Fisheries finds, pursuant to 5 U.S.C. 553(b)(B), that, because this final rule makes only minor, non-substantive changes, it is unnecessary to provide for public comment. Additionally, because this final rule is not a substantive rule, the 30-day delay in effective date under 5 U.S.C. 553(d) is not applicable.

List of Subjects

50 CFR Part 300

Administrative practice and procedure, Antarctica, Canada, Exports, Fish, Fisheries, Fishing, Imports, Indians, Labeling, Marine Resources, Reporting and recordkeeping requirements, Russian Federation, Transportation, Treaties, Wildlife.

50 CFR Part 600

Administrative practice and procedure, Confidential business information, Fisheries, Fishing, Fishing vessels, Foreign relations, Intergovernmental relations, Penalties, Reporting and recordkeeping requirements, Statistics.

Dated: September 20, 2011.
Samuel D. Rauch III,
Deputy Assistant Administrator for Regulatory Programs, National Marine Fisheries Service.

For the reasons discussed in the preamble, NMFS amends 50 CFR parts 300 and 600 as follows:

PART 300—INTERNATIONAL FISHERIES REGULATIONS

1. The authority citation for part 300 is revised to read as follows:

Authority: 16 U.S.C. 1801 et seq., 16 U.S.C. 5501 et seq., 16 U.S.C. 2431 et seq., 31 U.S.C. 9701 et seq.

2. In § 300.2:

a. Remove the definitions of ``Director, Alaska Region,'' ``Director, Northeast Region,'' ``Director, Northwest Region,'' ``Director, Southeast Fisheries Science Center,'' ``Director, Southeast Region,'' ``Director, Southwest Region'' and ``Magnuson Act'';

b. Revise the definition of ``NMFS Headquarters''; and

c. Add definitions of ``Magnuson-Stevens Act'' ``Regional Administrator'' and ``Science and Research Director'' in alphabetical order to read as follows:

§ 300.2 Definitions.

* * * * *

Magnuson-Stevens Act means the Magnuson-Stevens Fishery Conservation and Management Act, 16 U.S.C. 1801 et seq.

* * * * *

NMFS Headquarters means NMFS, 1315 East-West Highway, Silver Spring, MD 20910. Attention: Office of International Affairs

* * * * *

Regional Administrator means the Administrator of one of the six NMFS Regions, described in Table 1 of § 600.502 of this title, or a designee.

Science and Research Director means the Director of one of the six NMFS Fisheries Science Centers described in Table 1 of § 600.502 of this title, or a designee, also known as the Science Director.

* * * * *

§ 300.11 [Amended]

3. In § 300.11, remove the definition of “Regional Administrator.”

4. In § 300.121, revise paragraph (2) of the definition of “Lobster”, and the definition of “Regional Administrator”, to read as follows:

§ 300.121 Definitions.

* * * * *

Lobster * * *

(2) Caribbean spiny lobster or spiny lobster, Panulirus argus.

* * * * *

Regional Administrator means the Administrator of the Southeast Region, or a designee.

* * * * *

5. In § 300.151, revise the definition of “Regional Administrator” to read as follows:

§ 300.151 Definitions.

* * * * *

Regional Administrator means Administrator of the Alaska Region, or a designee.

* * * * *

6. In § 300.154, paragraph (b)(2) is revised to read as follows:

§ 300.154 Recordkeeping and reporting.

* * * * *

(b) * * *

(2) The report must be faxed to (301) 713-2313 within 5 calendar days of receipt of the Russian permit.

* * * * *

7. In addition to the amendments above, in 50 CFR part 300, the references to “Magnuson Act” are revised to read “Magnuson-Stevens Act” in the following places only.

Section | Paragraph | Frequency
300.96 |  | 1
300.121 | Introductory text | 2
300.128 |  | 3
300.140 |  | 1
300.141 | Introductory text | 2
300.144 |  | 1
300.151 | Introductory text | 2
300.155 | (d)(4) | 1
300.156 | (m) | 1
300.157 |  | 1

PART 600—MAGNUSON-STEVENS ACT PROVISIONS

8. The authority citation for 50 CFR part 600 continues to read as follows:

Authority: 16 U.S.C. 1801 et seq.

9. In part 600, the references to “International Fisheries Division” are revised to read “Office of International Affairs” in the following places only.

Section | Paragraph | Frequency
600.501 | (d)(1) | 1
600.518 | (a) | 1

[FR Doc. 2011-24659 Filed 9-23-11; 8:45 am]

BILLING CODE 3510-22-P